DEPARTMENT OF COMMERCE

National Oceanic and Atmospheric Administration

RIN 0648-XB042

Marine Mammals; File No. 16325

AGENCY: National Marine Fisheries Service (NMFS), National Oceanic and Atmospheric Administration (NOAA), Commerce.

ACTION: Notice; receipt of application.

SUMMARY: Notice is hereby given that Jooke Robbins, Ph.D., Center for Coastal Studies (CCS), 5 Holway Avenue, Provincetown, MA 02657, has applied in due form for a permit to conduct research on humpback whales (Megaptera novaeangliae), fin whales (Balaenoptera physalus), blue whales (B. musculus), sei whales (B. borealis), minke whales (B. acutorostrata), sperm whales (Physeter macrocephalus), and killer whales (Orcinus orca).

DATES: Written, telefaxed, or email comments must be received on or before March 30, 2012.

ADDRESSES: The application and related documents are available for review by selecting “Records Open for Public Comment” from the Features box on the Applications and Permits for Protected Species (APPS) home page, https://apps.nmfs.noaa.gov, and then selecting File No. 16325 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a permit to conduct close vessel approaches; photo-identification and behavioral observations; photogrammetry; collection of exhaled air, feces and sloughed skin; and skin and blubber biopsy sampling import and export of parts; in order to continue a long-term study of North Atlantic humpback whales and to improve understanding of six other species in the North Atlantic (fin, blue, sei, minke, sperm and killer whales). Research would occur in the waters off Maine to Florida and Puerto Rico. The purposes of the research are to: (1) Monitor trends in abundance and vital rates, (2) study movement and habitat use patterns, including individual exchange with other populations, (3) study entanglement rates and human-related impacts, (4) perform genetic investigations into demography and reproductive success, (5) perform hormone-based studies into reproduction and neonatal mortality, and (6) perform stable isotope investigations into foraging ecology and nutritional stress in humpback whales. Research on the other species would focus primarily on population structure, human impacts, and health. Up to 2,100 humpback whales, 250 fin whales, 100 sei whales, and 50 whales from each of the remaining species could be harassed each year during photo-identification activities, and collection of sloughed skin, exhaled mucosa/gases, and/or feces. In addition, 340 humpback whales, 90 fin whales, 70 sei whales, and 30 whales from each of the remaining species could be harassed each year to acquire successful skin and blubber biopsy samples. North Atlantic right whales (Eubalaena glacialis) and 14 other non-listed marine mammals could be incidentally harassed. See the application for specific take numbers by location and species/stock. The permit would be valid for a period of five years.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Dated: February 24, 2012.
Tammy Adams,
Acting Chief, Permits and Conservation Division, Office of Protected Resources, National Marine Fisheries Service.

[FR Doc. 2012-4833 Filed 2-28-12; 8:45 am]

BILLING CODE 3510-22-P